DEPARTMENT OF AGRICULTURE

Risk Management Agency

Notice of Intent to Seek Approval to Conduct an Information Collection

AGENCY: Risk Management Agency, USDA.

ACTION: Notice and request for comments.

SUMMARY: In accordance with the Paperwork Reduction Act of 1995, this notice announces the intention of the Risk Management Agency to request approval for the collection of information in support of the agency's mission under section 522(d) of the Federal Crop Insurance Act to develop and implement risk management tools for producers of agricultural commodities through partnership agreements.

DATES: Written comments on this notice will be accepted until close of business, July 2, 2007.

ADDRESSES: Interested persons are invited to submit written comments to Virginia Guzman, United States Department of Agriculture (USDA), Non-Insurance Programs Branch, Federal Crop Insurance Corporation, Risk Management Agency, 6501 Beacon Drive, Mail Stop 813, Kansas City, MO 64133. Written comments may also be submitted electronically to: RMANIP.PRA@rma.usda.gov.

FOR FURTHER INFORMATION CONTACT: Virginia Guzman at the Kansas City, MO address listed above, telephone (816) 926-6343.

SUPPLEMENTARY INFORMATION: Title: Risk Management Tools for Drought.

OMB Number: 0563-NEW.

Type of Request: New Information Collection.

Abstract: The Risk Management Agency intends to collect information for purposes of the development of non-insurance risk management tools and assessment of the tools. Information collection for this study is required for the purposes of (1) understanding the risk and impacts of drought on agricultural producers; (2) identifying information needed by producers to assist them in their decision making; (3) tool development, and (4) on-going evaluation and testing of the developed tools. The information collection will be conducted through telephone interviews, mail questionnaires, in-person surveys, focus groups and Web-based questionnaires. Results of this collection will be used to develop, revise and improve the risk management tools. We are asking the Office of Management and Budget (OMB) to approve this information collection activity for 3 years.

The purpose of this notice is to solicit comments from the public concerning the information collection activities. These comments will help us:

1. Evaluate whether the proposed collection of information is necessary for the proper performance of the functions of the agency, including whether the information will have practical utility;

2. Evaluate the accuracy of the agency's estimate of the burden of the proposed collection information;

3. Enhance the quality, utility, and clarity of the information to be collected; and

4. Minimize the burden of the collection of information on those who are to respond, through use, as appropriate, of automated, electronic, mechanical, or other collection technologies, e.g. permitting electronic submission of responses.

Estimate of Burden: The public reporting burden for this collection of information is estimated to average 3 to 15 minutes per response, depending on the survey.

Respondents/Affected Entities: Agricultural Producers, and individuals and organizations involved in education and assistance to agricultural producers, including Cooperative Extension Specialists, government officials, and businesses in the agricultural sector.

Estimated annual number of respondents: 5,470.

Estimated annual number of responses: 4,935.

Estimated total annual burden on respondents: 547 hours.

All responses to this notice will be summarized and included in the request for OMB approval. All comments will also become a matter of public record.

Signed in Washington, DC, on April 24, 2007.
Eldon Gould,
Manager, Federal Crop Insurance Corporation.

[FR Doc. E7-8241 Filed 4-30-07; 8:45 am]

BILLING CODE 3410-08-P